DEPARTMENT OF THE INTERIOR

Bureau of Reclamation

Millerton Lake Resource Management Plan/General Plan (RMP/GP), Madera and Fresno Counties, CA

AGENCY: Bureau of Reclamation, Interior.

ACTION: Notice of availability of the Final Environmental Impact Statement, Environmental Impact Report (EIS/EIR).

SUMMARY: The Bureau of Reclamation (Reclamation), as the National Environmental Policy Act Federal lead agency, and the California Department of Parks & Recreation (CDPR), as the California Environmental Quality Act (CEQA) State lead agency, have prepared a Final EIS/EIR for the Millerton Lake RMP/GP. The RMP/GP involves alternatives for future use of the project area for recreation and resource protection and management.

A Notice of Availability of the Draft EIS/EIR was published in the Federal Register on July 25, 2008 (73 FR 43473). The formal comment period on the Draft EIS/EIR ended on September 23, 2008. The Final EIS/EIR contains responses to all comments received and reflects comments and any additional information received during the review period.

DATES: Reclamation will not make a decision on the proposed action until at least 30 days after release of the Final EIS/EIR. After the 30-day waiting period, Reclamation will complete a Record of Decision (ROD). The ROD will state the action that will be implemented and will discuss all factors leading to the decision.

The California State Parks and Recreation Commission Hearing on the Final RMP/GP EIS/EIR will be held on May 12, 2010. A Notice of Determination will be filed after the Commission Hearing. This action will trigger a 30-day appeal period under CEQA.

ADDRESSES: Send requests for a compact disc copy of the Final EIS/EIR to Mr. Jack Collins, Bureau of Reclamation, 1243 N Street, Fresno, CA 93721.

Copies of the Final RMP/EIS will be available at: http://www.usbr.gov/mp/nepa/nepa_projdetails.cfm?Project_ID=546. See the SUPPLEMENTARY INFORMATION section for locations where copies of the Final EIS/EIR are available.

FOR FURTHER INFORMATION CONTACT: Mr. Jack Collins, Bureau of Reclamation, Monday through Friday, 7 a.m. to 1 p.m., at (559) 349-4544 (TDD (559) 487-5933) or jwcollins@usbr.gov.

SUPPLEMENTARY INFORMATION: The Millerton Lake Final EIS/EIR evaluates the existing resource management of Millerton Lake. The project purpose consists of: (1) Identifying the current and most appropriate future uses of land and water resources within the Plan Area; (2) identifying the long-term resource programs and implementation guidelines to manage and develop recreation, natural, and cultural resources; and (3) developing strategies and approaches to protect and preserve the natural, recreational, aesthetic, and cultural resources.

Millerton Lake is an existing reservoir formed by Friant Dam, and located in Fresno and Madera Counties, CA. The Dam, which regulates the normal flow of the San Joaquin River and stores floodwaters for irrigation diversion into the Friant-Kern and Madera Canals, was completed in 1947. Millerton Lake has a storage capacity of 520,500 acre-feet and a surface area of 4,900 acres. Through agreements with Reclamation and the California Department of Fish and Game, the CDPR manages the entire Plan Area.

The most recent General Plan for the Plan Area was completed by CDPR in 1983, and projected recreation trends and deficiencies through 1990. Since the adoption of this plan, several changes to the physical and regulatory environment have resulted in the need for an updated plan. The new joint RMP/GP will have a planning horizon through the year 2035.

The new plan will: (1) Enhance natural resources and recreational opportunities without interrupting reservoir operations; (2) provide recreational opportunities to meet the demands of a growing population with diverse interests; (3) ensure diversity of recreational opportunities and quality of the recreational experience; (4) protect natural, cultural, and recreational sources while providing resource education opportunities and stewardship; and (5) provide updated management for establishing a new management agreement with the State of California.

The Final EIS/EIR contains a program-level analysis of the potential impacts associated with adoption of the RMP/GP. The Final EIS/EIR outlines the formulation and evaluation of alternatives designed to address issues through a representation of the varied interests in the Plan Area and identifies Alternative 2 (Enhancement) as the preferred Alternative. The RMP/GP is intended to be predominately self-mitigating through implementation of management actions and strategies, but also includes mitigation measures to reduce potential adverse effects.

The Final EIS/EIR has been developed within the authorities provided by Congress through the Reclamation Recreation Management Act of 1992 (Pub. L. 102-575, Title 28, 16 U.S.C. 460l-31) and other applicable agency and the U.S. Department of the Interior policies.

Copies of the Final EIS/EIR are available at the following locations:

• Bureau of Reclamation, Mid-Pacific Region, Regional Library, 2800 Cottage Way, Sacramento, CA 95825.

• Bureau of Reclamation, South-Central California Area Office, 1243 N Street, Fresno, CA 93721.

• Millerton Lake State Recreational Area, 5290 Millerton Road, Friant, CA 93626.

• Fresno County Public Library, Central Location, 2420 Mariposa, Fresno, CA 93721.

• Madera County Public Library, Headquarters, 121 North G Street, Madera, CA 93637.

• Bureau of Reclamation, Denver Office Library, Building 67, Room 167, Denver Federal Center, 6th and Kipling, Denver, CO 80225.

• Natural Resources Library, U.S. Department of the Interior, 1849 C Street, NW., Main Interior Building, Washington, DC 20240-0001.

Public Disclosure

Before including your name, address, phone number, e-mail address, or other personal identifying information in any correspondence, you should be aware that your entire correspondence—including your personal identifying information—may be made publicly available at any time. While you can ask us in your correspondence to withhold your personal identifying information from public view, we cannot guarantee that we will be able to do so.

Dated: March 18, 2010.
Pablo R. Arroyave,
Deputy Regional Director, Mid-Pacific Regional Office.

[FR Doc. 2010-9428 Filed 4-22-10; 8:45 am]

BILLING CODE 4310-MN-P